NATIONAL SCIENCE FOUNDATION

Committee Management; Notice of Establishment

The Director of the National Science Foundation has determined that the establishment of the Proposal Review Panel for International and Integrative Activities is necessary and in the public interest in connection with the performance of duties imposed upon the National Science Foundation (NSF), by 42 U.S.C. 1861 et seq. This determination follows consultation with the Committee Management Secretariat, General Services Administration.

Name of Committee: Proposal Review Panel for International and Integrative Activities (#2469).

Purpose: The Committee will provide advice to the National Science Foundation (NSF) on the merit of proposals requesting financial support of research, and research and education-related activities. The Committee will review proposals submitted to NSF under the purview of the Office of International and Integrative Activities (OIIA). The Committee will review and evaluate proposals, which may include site visits, and provide written recommendations on proposals as part of the selection process for awards. The Committee may evaluate and provide advice on the progress of awarded proposals.

Responsible NSF Official: Wanda E. Ward, National Science Foundation, 4201 Wilson Boulevard, Arlington, VA 22230. Telephone: 703/292-8040.

Dated: June 24, 2013.
Susanne Bolton,
Committee Management Officer.

[FR Doc. 2013-15384 Filed 6-26-13; 8:45 am]

BILLING CODE 7555-01-P